COMMITTEE FOR PURCHASE FROM PEOPLE WHO ARE BLIND OR SEVERELY DISABLED

Procurement List; Proposed Additions

AGENCY: Committee for Purchase from People Who Are Blind or Severely Disabled.

ACTION: Proposed additions to procurement list.

SUMMARY: The Committee is proposing to add to the Procurement List services to be furnished by nonprofit agencies employing persons who are blind or have other severe disabilities.

Comments Must Be Received On or Before: July 27, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a)(2) and 41 CFR 51-2.3. Its purpose is to provide interested persons an opportunity to submit comments of the proposed actions.

If the Committee approves the proposed additions, the entities of the Federal Government identified in the notice for each service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List. Comments on this certification are invited.

Commenters should identify the statement(s) underlying the certification on which they are providing additional information.

(End of Certification)

The following services are proposed for addition to Procurement List for production by the nonprofit agencies listed:

Services

Service Type/Location: Custodial Services, DFAS Center Complex, Denver, Colorado.

NPA: North Metro Community Services for Developmentally Disabled, Westminister, Colorado.

Contract Activity: 460th Air Base Wing, Buckley AFB, Colorado.

Service Type/Location: Custodial Service, Basewide, Patrick AFB, Florida.

NPA: Brevard Achievement Center, Inc., Rockledge, Florida.

Contract Activity: AFSPC-Patrick, Patrick AFB, Florida.

Service Type/Location: Facilities/Grounds Maintenance, Addicks Field Office and Compound Storage Yard, Barker Visitors Areas, Dams, Reservoirs & Related Facilities, Houston, Texas.

NPA: Training, Rehabilitation, & Development Institute, Inc., San Antonio, Texas.

Contract Activity: U.S. Army Corps of Engineers, Galveston, Texas.

Service Type/Location: Grounds Maintenance and Vegetation Control, Housing and Station Areas, Fallon Naval Air Station, Fallon, Nevada.

NPA: High Sierra Industries, Inc., Reno, Nevada.

Contract Activity: Engineering Field Activity NW, Fallon Field Office, Fallon, Nevada.

Service Type/Location: Janitorial/Custodial, Childcare Development Center, Andersen AFB, Guam.

NPA: Able Industries of the Pacific, Tamuning, Guam.

Contract Activity: 36th CONS/LGCD, Andersen AFB, Guam.

Service Type/Location: Janitorial/Custodial, Federal Building, U.S. Post Office and Courthouse, Hannibal, Missouri.

NPA: Learning Opportunities/Quality Works, Inc., Monroe City, Missouri.

Contract Activity: GSA, Public Buildings Service, Kansas City, Missouri.

Service Type/Location: Janitorial/Custodial, New Federal Courthouse, Seattle, Washington.

NPA: Northwest Center for the Retarded, Seattle, Washington.

Contract Activity: GSA, Public Buildings Service, Auburn, Washington.

Service Type/Location: Janitorial/Custodial, Internal Revenue Service, Ogden Service Center, Ogden, Utah.

NPA: Enable Industries Incorporated, Ogden, Utah.

Contract Activity: IRS-Western Area Procurement Branch-APFW, San Francisco, California.

Service Type/Location: Laundry/Dry Cleaning, 911 Airlift Wing, Coraopolis, Pennsylvania.

NPA: Hancock County Sheltered Workshop, Inc., Weirton, West Virginia.

Contract Activity: 911 Airlift Wing (AFRES), Pittsburgh, Pennsylvania.

Service Type/Location: Mailroom Operation, Department of Commerce, Boulder Laboratories, Buildings 1 and 2, Boulder, Colorado.

NPA: Bayaud Industries, Inc., Denver, Colorado.

Contract Activity: National Oceanic and Atmospheric Administration, Boulder, Colorado.

Service Type/Location: Medical Transcription, 355th Medical Supply-F5HOSP, Davis-Monthan AFB, Arizona.

NPA: National Telecommuting Institute, Inc., Boston, Massachusetts.

Contract Activity: 355th CONS/CC, Davis-Monthan AFB, Arizona.

Sheryl D. Kennerly,
Director, Information Management.

[FR Doc. 03-16313 Filed 6-26-03; 8:45 am]

BILLING CODE 6353-01-P